DEPARTMENT OF COMMERCE

International Trade Administration

[A-570-967, C-570-968]

Aluminum Extrusions From the People's Republic of China: Affirmative Final Determination of Circumvention of the Antidumping and Countervailing Duty Orders and Rescission of Minor Alterations Anti-Circumvention Inquiry

AGENCY: Enforcement and Compliance, International Trade Administration, Department of Commerce.

SUMMARY: The Department of Commerce (the Department) determines that heat-treated extruded aluminum products that meet the chemical specifications for 5050-grade aluminum alloy, regardless of producer, exporter, or importer, constitute later-developed merchandise, and are circumventing the antidumping (AD) and countervailing duty (CVD) orders on aluminum extrusions from the People's Republic of China (PRC). The Department also rescinds its minor alterations anti-circumvention inquiry.

DATES: Effective July 26, 2017.

FOR FURTHER INFORMATION CONTACT: Scott Hoefke or Erin Kearney, AD/CVD Operations, Office VI, Enforcement & Compliance, International Trade Administration, U.S. Department of Commerce, 1401 Constitution Avenue NW., Washington, DC 20230; telephone: (202) 482-4947 or (202) 482-0167, respectively.

SUPPLEMENTARY INFORMATION:

Background

On March 21, 2016, the Department published its notice of initiation of this anti-circumvention inquiry.¹ The Department published the Preliminary Determination of the anti-circumvention inquiry of aluminum extrusions from the PRC on November 14, 2016.²

¹ See Aluminum Extrusions from the People's Republic of China: Initiation of Anti-Circumvention Inquiry, 81 FR 15039 (March 21, 2016) (Initiation Notice).

² See Aluminum Extrusions from the People's Republic of China: Initiation of Anti-Circumvention Inquiry: Affirmative Preliminary Determination of Circumvention of the Antidumping and Countervailing Duty Orders and Intent To Rescind Minor Alterations Anti-Circumvention Inquiry, 81 FR 79444 (November 14, 2016) (Preliminary Determination), and accompanying Preliminary Decision Memorandum. See also Aluminum Extrusions from the People's Republic of China: Antidumping Duty Order, 76 FR 30650 (May 26, 2011) and Aluminum Extrusions from the People's Republic of China: Countervailing Duty Order, 76 FR 30653 (May 26, 2011) (collectively, the Orders).

A summary of the events that occurred since the Department published the Preliminary Determination, as well as a full discussion of the issues raised by parties for this final determination, may be found in the Issues and Decision Memorandum.³ The Issues and Decision Memorandum is a public document, and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly at http://enforcement.trade.gov/frn/. The signed Issues and Decision Memorandum and the electronic versions of the Issues and Decision Memorandum are identical in content.

³ See Memorandum re: Anti-Circumvention Inquiry Regarding the Antidumping Duty and Countervailing Duty Orders on Aluminum Extrusions from the People's Republic of China: Issues and Decision Memorandum (Issues and Decision Memorandum), dated concurrently with this determination and hereby adopted by this notice.

Scope of the Orders

The merchandise covered by the Orders are aluminum extrusions from the People's Republic of China. The merchandise subject to the orders are currently classifiable in the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

Products subject to these Orders may also enter under HTSUS: 7610.10, 7610.90, 7615.19, 7615.20, and 7616.99 as well as under other HTSUS chapters. Subject merchandise may also enter under HTSUS numbers: 8418.99.80.50 and 8418.99.80.60. While HTSUS subheadings are provided for convenience and customs purposes, the written description of the scope of these Orders is dispositive.⁴

⁴ For a complete description of the scope of the Orders, see the “Scope of the Orders,” in Issues and Decision Memorandum.

Analysis of Comments Received

All issues raised in the case and rebuttal briefs that were submitted by parties in this inquiry are addressed in the Issues and Decision Memorandum. A list of these issues is attached in the Appendix to this notice.

Final Affirmative Determination of Circumvention

In accordance with 781(d) of the Tariff Act of 1930, as amended (the Act), we continue to find that all imports from the PRC of heat-treated extruded aluminum products that meet the chemical specifications for 5050-grade aluminum alloy, regardless of producer, exporter, or importer, constitute later-developed merchandise that is circumventing, and should be included within, the scope of the Orders.⁵

⁵ See section 781(d) of the Act and 19 CFR 351.225(j).

Rescission of Minor Alterations Anti-Circumvention Inquiry

In light of the Department's final affirmative determination of circumvention pursuant to section 781(d) of the Act, the Department rescinds its minor alterations anti-circumvention inquiry pursuant to section 781(c) of the Act.

Suspension of Liquidation

In accordance with 19 CFR 351.225(l)(2), the Department will direct U.S. Customs and Border Protection (CBP) to continue to suspend liquidation of inquiry merchandise from the PRC (regardless of producer, exporter, or importer), entered, or withdrawn from warehouse, for consumption, on or after March 21, 2016, the date of publication of the initiation of this inquiry, until appropriate liquidation instructions are issued.⁶ The Department will also instruct CBP to continue to require a cash deposit of estimated duties at the rate applicable to the exporter on all unliquidated entries of inquiry merchandise entered, or withdrawn from warehouse, for consumption on or after March 21, 2016.

⁶ See Initiation Notice.

Certification Requirement

In light of the Department's preliminary finding of circumvention, the Department considered whether to require importers of certain aluminum extrusions who claim the imported merchandise is not subject to the Orders to certify that the aluminum extrusions were not produced from heat-treated 5050-grade aluminum alloy. Based on the Department's analysis of comments received, the Department will not require importers to maintain a certification at this time.⁷

⁷ See Issues and Decision Memorandum, at Comment 4, for further detail.

Notification to the International Trade Commission

As discussed in the Issues and Decision Memorandum, because the Department has determined, for purposes of sections 781(d)(1) and (e) of the Act, that the later-developed inquiry merchandise does not incorporate a significant technological advance or significant alteration of an earlier product, the Department did not notify the International Trade Commission of its proposed inclusion of the inquiry merchandise within the Orders.

This affirmative anti-circumvention determination is published in accordance with section 781(d) of the Act and 19 CFR 351.225.

Dated: July 20, 2017.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Orders

IV. Merchandise Subject to the Anti-Circumvention Inquiry

V. Discussion of the Issues

1. The Department's Authority To Conduct an Anti-Circumvention Inquiry

2. Later-Developed Merchandise and Commercial Availability

3. Scope Exclusion

4. Country-Wide Ruling

5. Certification Requirement

6. Effective Cash Deposit Date

VI. Rescission of Minor Alterations Anti-Circumvention Inquiry

VII. Recommendation

[FR Doc. 2017-15683 Filed 7-25-17; 8:45 am]

BILLING CODE 3510-DS-P